DEPARTMENT OF TRANSPORTATION

Federal Railroad Administration

[Docket Number FRA-2025-0588]

Notice of Petition for Waiver of Compliance

AGENCY: Federal Railroad Administration (FRA), Department of Transportation (DOT).

ACTION: Notice.

SUMMARY: This document provides the public notice that Long Island Rail Road (LIRR) petitioned FRA for relief from certain regulations concerning recording devices on locomotives.

DATES: FRA must receive comments on the petition by December 19, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Harry Weisinger, Railroad Safety Specialist, FRA Motive Power & Equipment Division, telephone: 202-493-0036, email: harold.weisinger@dot.gov.

SUPPLEMENTARY INFORMATION: Under part 211 of title 49 Code of Federal Regulations (CFR), this document provides the public notice that by letter dated August 12, 2025, LIRR petitioned FRA for a waiver of compliance from certain provisions of the Federal railroad safety regulations contained at 49 CFR part 229 (Railroad Locomotive Safety Standards). FRA assigned the petition Docket Number FRA-2025-0588.

Specifically, LIRR seeks temporary relief from the deadline by which to implement § 229.136(a)(1,5) and (c)(1)(iii), Locomotive image and audio recording devices, which requires recording systems to include a device “aimed parallel to the centerline of the tangent track within the gauge on the front end of the locomotive;” that notes “an accurate time and date stamp on image recordings;” and is “capable of using ambient light in the cab” and can “automatically switch to infrared or another operating mode” if the light is too low. In its petition, LIRR explains that although its locomotives have included on-board image recorders for over a decade, LIRR “cannot meet the regulation's October 2027 deadline [for compliance] due to, among other things, legally required procurement processes, work space and workforce limitations, existing maintenance and regulatory obligations[,]” and potential disruptions to its sizeable commuter service. LIRR proposes rolling deadlines from December 2028 to December 2030, and states that if LIRR is required to meet the October 2027 deadline, its service capacity will be cut by more than half, as a significant percentage of its trains would be removed from service.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by December 19, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-20287 Filed 11-18-25; 8:45 am]

BILLING CODE 4910-06-P